DEPARTMENT OF DEFENSE

Office of the Secretary

[Transmittal No. 24-48]

Arms Sales Notification; Correction

AGENCY: Defense Security Cooperation Agency, Department of Defense (DoD).

ACTION: Arms sales notice; correction.

SUMMARY: On December 15, 2025, the DoD published a notice titled Arms Sales Notification. Subsequent to publication of the notice, the DoD realized that the wrong photographed page published in the notice. This correction reprints the photographed page in its entirety to include the correct page. All other information in the original notice remains the same.

FOR FURTHER INFORMATION CONTACT: Urooj Zahra at (703) 695-6233, urooj.zahra.civ@mail.mil, or dsca.ncr.rsrcmgmt.list.cns-mbx@mail.mil.

SUPPLEMENTARY INFORMATION: In the Federal Register of December 15, 2025 (90 FR 57983-57986), in FR Doc. 2025-22709, on page 57984 immediately following the signature block in the second column, the photographed page is reprinted correctly as follows.

BILLING CODE 6001-FR-P

Dated: January 2, 2026.
Aaron T. Siegel,
Alternate OSD Federal Register Liaison Officer, Department of Defense.

[FR Doc. 2026-00029 Filed 1-6-26; 8:45 am]

BILLING CODE 6001-FR-C